DEPARTMENT OF ENERGY

Federal Energy Regulatory Commission

Combined Notice of Filings

Take notice that the Commission has received the following Natural Gas and Oil Pipeline Rate and Refund Report filings:

Filings Instituting Proceedings

Docket Numbers: PR24-5-000.

Applicants: UGI Utilities, Inc.

Description: 284.123(g) Rate Filing: Rate Election 11-1-2023 to be effective 11/1/2023.

Filed Date: 10/31/23.

Accession Number: 20231031-5161.

Comment Date: 5 p.m. ET 11/21/23.

Protest Date: 5 p.m. ET 1/2/24.

Docket Numbers: RP24-101-000.

Applicants: El Paso Natural Gas Company, L.L.C.

Description: 4(d) Rate Filing: Negotiated Rate Agreement Update (SoCal Nov 23) to be effective 11/1/2023.

Filed Date: 10/31/23.

Accession Number: 20231031-5158.

Comment Date: 5 p.m. ET 11/13/23.

Docket Numbers: RP24-102-000.

Applicants: Texas Eastern Transmission, LP.

Description: 4(d) Rate Filing: TETLP ASA DEC 2023 Filing to be effective 12/1/2023.

Filed Date: 10/31/23.

Accession Number: 20231031-5171.

Comment Date: 5 p.m. ET 11/13/23.

Docket Numbers: RP24-103-000.

Applicants: Natural Gas Pipeline Company of America LLC.

Description: 4(d) Rate Filing: Negotiated Rate Agreements—Various Shippers 2023 to be effective 11/1/2023.

Filed Date: 10/31/23.

Accession Number: 20231031-5188.

Comment Date: 5 p.m. ET 11/13/23.

Docket Numbers: RP24-104-000.

Applicants: Dauphin Island Gathering Partners.

Description: 4(d) Rate Filing: Negotiated Rate Filing—11.01.23 Chevron MDQ to be effective 11/1/2023.

Filed Date: 10/31/23.

Accession Number: 20231031-5203.

Comment Date: 5 p.m. ET 11/13/23.

Docket Numbers: RP24-105-000.

Applicants: Rockies Express Pipeline LLC.

Description: 4(d) Rate Filing: REX 2023-10-31 Negotiated Rate Agreements to be effective 11/1/2023.

Filed Date: 10/31/23.

Accession Number: 20231031-5207.

Comment Date: 5 p.m. ET 11/13/23.

Docket Numbers: RP24-106-000.

Applicants: NEXUS Gas Transmission, LLC.

Description: 4(d) Rate Filing: Negotiated Rates—Union Gas contract 860007 to be effective 11/1/2023.

Filed Date: 10/31/23.

Accession Number: 20231031-5211.

Comment Date: 5 p.m. ET 11/13/23.

Docket Numbers: RP24-107-000.

Applicants: Texas Eastern Transmission, LP.

Description: 4(d) Rate Filing: Negotiated Rates—Bug Co Nat 911814 Releases 11-01-23 to be effective 11/1/2023.

Filed Date: 10/31/23.

Accession Number: 20231031-5212.

Comment Date: 5 p.m. ET 11/13/23.

Docket Numbers: RP24-108-000.

Applicants: Destin Pipeline Company, L.L.C.

Description: 4(d) Rate Filing: Destin Pipeline Negotiated Rate Agreement Filing to be effective 11/1/2023.

Filed Date: 10/31/23.

Accession Number: 20231031-5231.

Comment Date: 5 p.m. ET 11/13/23.

Docket Numbers: RP24-109-000.

Applicants: Ruby Pipeline, L.L.C.

Description: 4(d) Rate Filing: RP 2023-10-31 FL&U and EPC Rate Adjustment to be effective 12/1/2023.

Filed Date: 10/31/23.

Accession Number: 20231031-5233.

Comment Date: 5 p.m. ET 11/13/23.

Docket Numbers: RP24-110-000.

Applicants: Sierrita Gas Pipeline LLC.

Description: 4(d) Rate Filing: 2023 Oct Quarterly FL&U Filing to be effective 12/1/2023.

Filed Date: 10/31/23.

Accession Number: 20231031-5237.

Comment Date: 5 p.m. ET 11/13/23.

Docket Numbers: RP24-111-000.

Applicants: LA Storage, LLC.

Description: 4(d) Rate Filing: Filing of Negotiated Rate, Conforming IW Agreements to be effective 11/1/2023.

Filed Date: 10/31/23.

Accession Number: 20231031-5238.

Comment Date: 5 p.m. ET 11/13/23.

Docket Numbers: RP24-112-000.

Applicants: Northern Natural Gas Company.

Description: 4(d) Rate Filing: 20231031 Negotiated Rate to be effective 11/1/2023.

Filed Date: 10/31/23.

Accession Number: 20231031-5264.

Comment Date: 5 p.m. ET 11/13/23.

Docket Numbers: RP24-113-000.

Applicants: Texas Eastern Transmission, LP.

Description: 4(d) Rate Filing: Negotiated Rates—Keyspan 8985743 Releases to be effective 11/1/2023.

Filed Date: 11/1/23.

Accession Number: 20231101-5014.

Comment Date: 5 p.m. ET 11/13/23.

Docket Numbers: RP24-114-000.

Applicants: Enable Mississippi River Transmission, LLC.

Description: Compliance filing: 2023 Annual Report of Penalty Revenue Credits to be effective N/A.

Filed Date: 11/1/23.

Accession Number: 20231101-5035.

Comment Date: 5 p.m. ET 11/13/23.

Docket Numbers: RP24-115-000.

Applicants: Enable Gas Transmission, LLC.

Description: Compliance filing: 2023 Annual Report of Total Penalty Revenue Credits to be effective N/A.

Filed Date: 11/1/23.

Accession Number: 20231101-5036.

Comment Date: 5 p.m. ET 11/13/23.

Docket Numbers: RP24-116-000.

Applicants: Enable Gas Transmission, LLC.

Description: Compliance filing: 2023 Annual Report of Linked Firm Service Penalty Revenue Credits to be effective N/A.

Filed Date: 11/1/23.

Accession Number: 20231101-5039.

Comment Date: 5 p.m. ET 11/13/23.

Docket Numbers: RP24-117-000.

Applicants: Gulf Run Transmission, LLC.

Description: Compliance filing: 2023 Annual Report of Penalty Revenue Credits to be effective N/A.

Filed Date: 11/1/23.

Accession Number: 20231101-5042.

Comment Date: 5 p.m. ET 11/13/23.

Docket Numbers: RP24-118-000.

Applicants: Algonquin Gas Transmission, LLC.

Description: 4(d) Rate Filing: Negotiated Rates—November 2023 Clean Up Filing to be effective 12/1/2023.

Filed Date: 11/1/23.

Accession Number: 20231101-5052.

Comment Date: 5 p.m. ET 11/13/23.

Docket Numbers: RP24-119-000.

Applicants: Algonquin Gas Transmission, LLC.

Description: 4(d) Rate Filing: Negotiated Rates—Various Releases eff 11-1-23 to be effective 11/1/2023.

Filed Date: 11/1/23.

Accession Number: 20231101-5054.

Comment Date: 5 p.m. ET 11/13/23.

Docket Numbers: RP24-120-000.

Applicants: Carlsbad Gateway, LLC.

Description: 2023 Penalty Revenue Crediting Report of Carlsbad Gateway, LLC.

Filed Date: 11/1/23.

Accession Number: 20231101-5071.

Comment Date: 5 p.m. ET 11/13/23.

Docket Numbers: RP24-121-000.

Applicants: Columbia Gas Transmission, LLC.

Description: 4(d) Rate Filing: OTRA Winter 2023 to be effective 12/1/2023.

Filed Date: 11/1/23.

Accession Number: 20231101-5081.

Comment Date: 5 p.m. ET 11/13/23.

Docket Numbers: RP24-122-000.

Applicants: NEXUS Gas Transmission, LLC.

Description: 4(d) Rate Filing: Negotiated Rates—Various Releases to be effective 11/1/2023.

Filed Date: 11/1/23.

Accession Number: 20231101-5087.

Comment Date: 5 p.m. ET 11/13/23.

Docket Numbers: RP24-123-000.

Applicants: Alliance Pipeline L.P.

Description: 4(d) Rate Filing: Negotiated Rates—Various Nov 1 2023 Contract Adjustments to be effective 11/1/2023.

Filed Date: 11/1/23.

Accession Number: 20231101-5090.

Comment Date: 5 p.m. ET 11/13/23.

Docket Numbers: RP24-124-000.

Applicants: Maritimes & Northeast Pipeline, L.L.C.

Description: 4(d) Rate Filing: Negotiated Rates—Northern to NRG Business 3018 to be effective 11/1/2023.

Filed Date: 11/1/23.

Accession Number: 20231101-5092.

Comment Date: 5 p.m. ET 11/13/23.

Docket Numbers: RP24-125-000.

Applicants: Alliance Pipeline L.P.

Description: 4(d) Rate Filing: Negotiated Rates—Various Nov 1 2023 Releases to be effective 11/1/2023.

Filed Date: 11/1/23.

Accession Number: 20231101-5093.

Comment Date: 5 p.m. ET 11/13/23.

Docket Numbers: RP24-126-000.

Applicants: Equitrans, L.P.

Description: 4(d) Rate Filing: Negotiated Rate Capacity Release Agreement—11/1/2023 to be effective 11/1/2023.

Filed Date: 11/1/23.

Accession Number: 20231101-5100.

Comment Date: 5 p.m. ET 11/13/23.

Docket Numbers: RP24-127-000.

Applicants: Texas Gas Transmission, LLC.

Description: 4(d) Rate Filing: Cap Rel Neg Rate Agmt (Kaiser Ohio 35448 to Kaiser Appalachian 57364) to be effective 11/1/2023.

Filed Date: 11/1/23.

Accession Number: 20231101-5123.

Comment Date: 5 p.m. ET 11/13/23.

Docket Numbers: RP24-128-000.

Applicants: Gulf South Pipeline Company, LLC.

Description: 4(d) Rate Filing: Cap Rel Neg Rate Agmt (Methanex 42805 to Tenaska 57451) to be effective 11/1/2023.

Filed Date: 11/1/23.

Accession Number: 20231101-5131.

Comment Date: 5 p.m. ET 11/13/23.

Docket Numbers: RP24-129-000.

Applicants: Gulf South Pipeline Company, LLC.

Description: 4(d) Rate Filing: Cap Rel Neg Rate Agmts (Osaka 46429 to ConocoPhillips 57488, Texla 57490) to be effective 11/1/2023.

Filed Date: 11/1/23.

Accession Number: 20231101-5132.

Comment Date: 5 p.m. ET 11/13/23.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP19-351-007.

Applicants: Tennessee Gas Pipeline Company, L.L.C.

Description: Compliance filing: Cost-Revenue Study Docket No. RP19-351__to be effective N/A.

Filed Date: 11/1/23.

Accession Number: 20231101-5073.

Comment Date: 5 p.m. ET 11/13/23.

Docket Numbers: RP23-1038-000.

Applicants: Transcontinental Gas Pipe Line Company, LLC.

Description: Report Filing: In-Service Notice_REA Interim_a_Docket No. CP21-94 to be effective N/A.

Filed Date: 10/31/23.

Accession Number: 20231031-5157.

Comment Date: 5 p.m. ET 11/13/23.

Docket Numbers: RP23-1055-000.

Applicants: Transcontinental Gas Pipe Line Company, LLC.

Description: Report Filing: In-Service Notice_REA Interim_b_Docket No. CP21-94 to be effective N/A.

Filed Date: 10/31/23.

Accession Number: 20231031-5164.

Comment Date: 5 p.m. ET 11/13/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 1, 2023.
Debbie-Anne A. Reese,
Deputy Secretary.

[FR Doc. 2023-24590 Filed 11-6-23; 8:45 am]

BILLING CODE 6717-01-P